DEPARTMENT OF JUSTICE

[OMB Number 1121-0330]

Agency Information Collection Activities; Proposed eCollection eComments Requested; Extension of a Previously Approved Collection; Law Enforcement Congressional Badge of Bravery

AGENCY: Office of Justice Programs, Department of Justice.

ACTION: 60-Day notice.

SUMMARY: The Office of Justice Programs, Bureau of Justice Assistance (BJA), Department of Justice (DOJ), will be submitting the following information collection request to the Office of Management and Budget (OMB) for review and approval in accordance with the Paperwork Reduction Act of 1995.

DATES: Comments are encouraged and will be accepted for 60 days until November 14, 2023.

FOR FURTHER INFORMATION CONTACT: If you have additional comments especially on the estimated public burden or associated response time, suggestions, or need a copy of the proposed information collection instrument with instructions or additional information, please contact Gregory Joy at 202-514-1369, Policy Advisor, Bureau of Justice Assistance, 810 7th Street NW, Washington, DC 20531; email: gregory.joy@usdoj.gov and telephone: (202) 514-1369.

SUPPLEMENTARY INFORMATION: Written comments and suggestions from the public and affected agencies concerning the proposed collection of information are encouraged. Your comments should address one or more of the following four points:

—Evaluate whether the proposed collection of information is necessary for the proper performance of the functions of the Bureau of Justice Statistics, including whether the information will have practical utility;

—Evaluate the accuracy of the agency's estimate of the burden of the proposed collection of information, including the validity of the methodology and assumptions used;

—Evaluate whether and if so how the quality, utility, and clarity of the information to be collected can be enhanced; and

—Minimize the burden of the collection of information on those who are to respond, including through the use of appropriate automated, electronic, mechanical, or other technological collection techniques or other forms of information technology, e.g., permitting electronic submission of responses.

Abstract: BJA will use the CBOB nomination information to confirm the eligibility nominees to be considered for the CBOB, and forward all eligible nominations as appropriate, to the Federal or the State and Local CBOB Board for their further consideration. In General—the agency heads of Federal/State and Local law enforcement agencies many nominate for a Federal/State and Local Law Enforcement CBOB, an individual—(1) who is a Federal/State and Local law enforcement officer working within the agency of the Federal/State and Local agency head making the nomination; and (2) who—(A)(i) sustained a physical injury while—(I) engaged in the lawful duties of the individual; and (II) performing an act characterized as bravery by the Federal/State and Local agency head making the nomination; and (ii) put the individual at personal risk when the injury described in clause (i) occurred; or (B) while not injured, performed and act characterized as bravery by the Federal/State and Local agency head making the nomination that placed the individual at risk of serious physical injury or death. BJA has been authorized to administer the CBOB Program.

Overview of This Information Collection

1. Type of Information Collection: Extension of a previously approved collection.

2. The Title of the Form/Collection: Law Enforcement Congressional Badge of Bravery (CBOB).

3. The agency form number, if any, and the applicable component of the Department sponsoring the collection: No form number. Sponsoring business component: Office of Justice Programs, Bureau of Justice Assistance (BJA).

4. Affected public who will be asked or required to respond, as well as the obligation to respond: Affected Public: State, local and Tribal Governments. The obligation to respond is voluntary.

5. An estimate of the total number of respondents and the amount of time estimated for an average respondent to respond: Over the last three years of this program, an average of 164 state and local nominations were submitted annually. Each nomination must be submitted via the online nomination system and should take 15 minutes to complete.

6. An estimate of the total annual burden (in hours) associated with the collection: The total annual burden hours for this collection is: 41 hours.

7. An estimate of the total annual cost burden associated with the collection, if applicable: There are no direct costs to the nominators other than the time taken to complete and submit the voluntary online nomination. Nominators are not requested to create and maintain an independent data collection, reporting systems, nor travel. Consequently, the nominators incur no additional costs.

If additional information is required contact: Darwin Arceo, Department Clearance Officer, United States Department of Justice, Justice Management Division, Policy and Planning Staff, Two Constitution Square, 145 N Street NE, 4W-218, Washington, DC.

Dated: September 11, 2023.
Darwin Arceo,
Department Clearance Officer for PRA, U.S. Department of Justice.

[FR Doc. 2023-19946 Filed 9-14-23; 8:45 am]

BILLING CODE 4410-18-P